DEPARTMENT OF THE INTERIOR

Bureau of Land Management

[LLORW00000-L10200000.MJ0000-15XL1109AF; HAG 15-0064]

Notice of Public Meeting

AGENCY: Bureau of Land Management, Interior.

ACTION: Notice of public meeting.

SUMMARY: In accordance with the Federal Land Policy Management Act and the Federal Advisory Committee Act, the Bureau of Land Management's (BLM) Eastern Washington Resource Advisory Council (RAC) will meet as indicated below.

DATES: The RAC will meet on Monday, February 9, 2015, from 10:00 a.m.-4:00 p.m. at the Washington State Potato Commission, 108 S. Interlake Road, Moses Lake, WA 98837. The meeting agenda will include updates of the Eastern Washington Resource Management Plan, personnel changes occurring on the Spokane District, an upcoming nomination period, and a discussion about the long term mission of the RAC and its inclusion in the Spokane District's land use planning decisions. The meeting will include a public comment period.

FOR FURTHER INFORMATION CONTACT: Robert St. Clair, BLM Spokane District, 1103 N. Fancher Rd., Spokane Valley, WA 99212, (509) 536-1297, or rstclair@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15 member Eastern Washington RAC was chartered to provide information and advice regarding the management of public lands in Eastern Washington. Members represent an array of stakeholder interests in the lands and resources in that region. On February 9, 2015 at 10:15 a.m., members of the public will have the opportunity to make comments to the Eastern Washington RAC. All advisory committee meetings are open to the public. Depending on the number of persons wishing to comment, the length of comments may be limited. The public may send written comments to the RAC at the BLM Spokane District Office, Attn. Eastern Washington RAC, 1103 N. Fancher Rd., Spokane Valley, WA 99212. Before including your address, phone number, email address, or other personal identifying information in your comments, please be aware that your entire comment—including your personal identifying information—may be made publicly available at any time. While you can ask us in your comment to withhold your personal identifying information from public review, we cannot guarantee that we will be able to do so. The BLM appreciates all comments.

Daniel C. Picard,
Spokane District Manager.

[FR Doc. 2015-00854 Filed 1-20-15; 8:45 am]

BILLING CODE 4310-33-P